EQUAL EMPLOYMENT OPPORTUNITY COMMISSION

Agency Information Collection Activities: Existing Collection; Emergency Extension

AGENCY: Equal Employment Opportunity Commission.

ACTION: Notice of Information Collection—Emergency Extension without Change: Demographic Information on Applicants for Federal Employment.

SUMMARY: In accordance with the Paperwork Reduction Act, the Equal Employment Opportunity Commission (EEOC or Commission) announces that it submitted to the Office of Management and Budget (OMB) a request for a 90-day emergency extension of the Demographic Information on Applicants for Federal Employment to be effective after the current July 31, 2013 expiration date.

FOR FURTHER INFORMATION CONTACT: Barbara Dougherty, Federal Sector Programs, Office of Federal Operations, 131 M Street NE., Washington, DC 20507, (202) 663-4770 (voice); (202) 663-4593 (TTY).

SUPPLEMENTARY INFORMATION: The Demographic Information on Applicants for Federal Employment is an optional form for the use by federal agencies in gathering data on the race, sex and national origin status of applicants.

Overview of Information Collection

Collection Title: Demographic Information on Federal Job Applicants.

OMB Control No.: 3046-0046.

Description of Affected Public: Individuals submitting applications for federal employment.

Number of Annual Responses: 5,800.

Estimated Time per Respondent: 3 minutes.

Total Annual Burden Hours: (5,800 × 3)/60 = 290.

Annual Federal Cost: None.

Abstract: Under section 717 of Title VII and 501 of the Rehabilitation Act, the Commission is charged with reviewing and approving federal agencies plans to affirmatively address potential discrimination before it occurs. Pursuant to such oversight responsibilities, the Commission has established systems to monitor compliance with Title VII and the Rehabilitation Act by requiring federal agencies to evaluate their employment practices through the collection and analysis of data on the race, national origin, sex and disability status of applicants for both permanent and temporary employment.

Response by applicants is optional. The information obtained will be used by federal agencies only for evaluating whether an agency's recruitment activities are effectively reaching all segments of the relevant labor pool, to gauge progress and trends over time with respect to equal opportunity goals, and to track progress toward meeting the recruitment and hiring strategies. The voluntary responses are treated in a highly confidential and anonymous manner, are not shared with those involved in the selection process or the supervisor (if the person is hired) and will not be placed in the employees' personnel file. The information is not provided to any panel rating the applications, to selecting officials, to anyone who can affect the application or to the public. Rather, the information is used in summary form to determine trends over many selections within a given occupational or organization area. No information from the form is entered into an official personnel file.

Burden Statement: Because of the predominant use of online application systems, which require only pointing and clicking on the selected responses, and because the form requests only eight questions regarding basic information, the EEOC estimates that an applicant can complete the form in approximately 3 minutes or less. Based on past experience, we expect that 5,800 applicants will choose to complete the form.

Once OMB approves the use of this common form, federal agencies may request OMB approval to use this common form without having to publish notices and request public comments for 60 and 30 days. Each agency must account for the burden associated with their use of the common form.

Dated: July 2, 2013.
For the Commission.
Jacqueline A. Berrien,
Chair.

[FR Doc. 2013-16431 Filed 7-8-13; 8:45 am]

BILLING CODE 6570-01-P